DEPARTMENT OF COMMERCE

National Oceanic and Atmospheric Administration

[Docket No. 030602141-5010-14; I.D. 012505A]

RIN 0648-ZB55

Availability of Grant Funds for Fiscal Year 2005

AGENCY: National Oceanic and Atmospheric Administration (NOAA), Department of Commerce (DOC).

ACTION: Omnibus notice announcing the availability of grant funds for fiscal year 2005.

SUMMARY: The National Oceanic and Atmospheric Administration (NOAA) announces a third availability of grant funds for Fiscal Year 2005. The purpose of this notice is to provide the general public with a consolidated source of program and application information related to the Agency's competitive grant offerings, and it contains the information about those programs required to be published in the Federal Register. This omnibus notice is designed to replace the multiple Federal Register notices that traditionally advertised the availability of NOAA's discretionary funds for its various programs. It should be noted that additional program initiatives unanticipated at the time of the publication of this notice may be announced later in the year.

DATES: Applications must be received by the date and time indicated under each program listing in the SUPPLEMENTARY INFORMATION section.

ADDRESSES: Applications must be submitted to the addresses listed in the SUPPLEMENTARY INFORMATION section for each program. This Federal Register notice may be found at the Grants.gov website, http://www.grants.gov, and the NOAA website at http://www.ofa.noaa.gov/amd/%SOLINDEX.HTML.

FOR FURTHER INFORMATION CONTACT: For a copy of the full funding opportunity announcement and/or application kit, access it at Grants.gov, via NOAA's website, http://www.ofa.noaa.gov/amd/%SOLINDEX.HTML, or by contacting the person listed as the information contact under each program.

SUPPLEMENTARY INFORMATION: NOAA published its first omnibus notice announcing the availability of grant funds for both projects and fellowships/scholarships/internships for Fiscal Year 2005 in the Federal Register on June 30, 2004 (69 FR 39417). The evaluation criteria and selection procedures contained in the June 30, 2004, omnibus notice are applicable to this solicitation. For a copy of the June 30, 2004, omnibus notice, please go to: http://www.Grants.gov or http://www.ofa.noaa.gov/amd/%SOLINDEX.HTML. This omnibus notice describes funding opportunities for the following NOAA discretionary grant programs:

NOAA Project Competitions

National Marine Fisheries Service (NMFS)

1. 2005 Atlantic Sea Scallop Research Set-Aside Program

2. Alaska Marine Resources Educational Partnership Program

3. Chesapeake Bay Integrated Research Program - Fisheries

4. Chesapeake Bay Integrated Research Program - Non-native oyster research

5. Chesapeake Bay Integrated Research Program - Submerged Aquatic Vegetation

6. New Bedford Harbor Restoration Projects Grants

7. Shellfish Growout Facility Development Grants

8. Western Demonstration Project

NOAA Fellowship, Scholarship and Internship Programs

Oceanic and Atmospheric Research (OAR)

1. Dean John A. Knauss Marine Policy Fellowship

Electronic Access

As has been the case since October 1, 2004, applicants can access, download and submit electronic grant applications for NOAA Programs through the Grants.gov website at http://www.grants.gov. These announcements will also be available at the NOAA web site http://www.ofa.noaa.gov/amd/%SOLINDEX.HTML or by contacting the program official identified below. However, applicants without internet access may still submit hard copies of their applications. The closing dates for applications filed through Grants.gov are the same as for the paper submissions noted in this announcement. For applicants filing through Grants.gov, NOAA strongly recommends that you do not wait until the application deadline date to begin the application process.

Getting started with Grants.gov is easy. Go to www.Grants.gov. There are two key features on the site: Find Grant Opportunities and Apply for Grants. Everything else on the site is designed to support these two features and your use of them. While you can begin searching for grant opportunities for which you would like to apply immediately, it is recommended that you complete the remaining Get Started steps sooner rather than later, so that when you find an opportunity for which you would like to apply, you are ready to go.

Get Started Step 1 B Find Grant Opportunity for Which You Would Like to Apply

Start your search for Federal government-wide grant opportunities and register to receive automatic email notifications of new grant opportunities or any modifications to grant opportunities as they are posted to the site by clicking the Find Grant Opportunities tab at the top of the page.

Get Started Step 2 B Register with Central Contractor Registry (CCR)

Your organization will also need to be registered with Central Contractor Registry. You can register with them online. This will take about 30 minutes. You should receive your CCR registration within 3 business days. Important: You must have a DUNS number from Dun & Bradstreet before you register with CCR. Many organizations already have a DUNS number. To determine if your organization already has a DUNS number or to obtain a DUNS number, contact Dun & Bradstreet at 1-866-705-5711. This will take about 10 minutes and is free of charge. Be sure to complete the Marketing Partner ID (MPIN) and Electronic Business Primary Point of Contact fields during the CCR registration process. These are mandatory fields that are required when submitting grant applications through Grants.gov.

Get Started Step 3 B Register with the Credential Provider

You must register with a Credential Provider to receive a username and password. This will be required to securely submit your grant application.

Get Started Step 4 B Register with Grants.gov

The final step in the Get Started process is to register with Grants.gov. This will be required to submit grant applications on behalf of your organization. After you have completed the registration process, you will receive email notification confirming that you are able to submit applications through Grants.gov.

Get Started Step 5 B Log on to Grants.gov

After you have registered with Grants.gov, you can log on to Grants.gov to verify if you have registered successfully, to check application status, and to update information in your applicant profile, such as your name, telephone number, email address, and title. In the future, you will have the ability to determine if you are authorized to submit applications through Grants.gov on behalf of your organization.

NOAA Project Competitions

National Marine Fisheries Service (NMFS)

1. 2005 Atlantic Sea Scallop Research Set-Aside Program

SUMMARY DESCRIPTION: For fishing year 2005 (March 1, 2005 - February 28, 2006), the New England Fishery Management Council (Council) has set aside portions of the total allowable catch (TAC) and Days-at-Sea (DAS) allowance in the sea scallop fishery to be used for sea scallop research endeavors under a research set-aside (RSA) program. The RSA program provides a mechanism to fund research and compensate vessel owners through the sale of fish harvested under the research quota. Vessels participating in an approved research project may be authorized by the Northeast Regional Administrator, NMFS, to harvest and to land species in excess of any imposed trip limit or during fishery closures. Landings from such trips would be sold to generate funds that would help defray the costs associated with research projects. No Federal funds would be provided for research under this notification.

FUNDING AVAILABILITY: No Federal funds are provided for research under this notification, but rather the opportunity to fish and sell the catch to generate income. The Federal Government's contribution to the project will be a Letter of Authorization (LOA) that will provide special fishing privileges in response to sea scallop research applications selected to participate in this program. In the past, 2-5 awards have been issued. During the 2004 fishing year, the income generated ranged from $64,140 to $200,460 with an average of $131,990.

STATUTORY AUTHORITY: 16 U.S.C. 1853(b)(11), 16 U.S.C. 1881a(e), and 16 U.S.C. 1881(c).

CATALOG of FEDERAL DOMESTIC ASSITANCE NUMBER: 11.454.

APPLICATION DEADLINE: Applications must be received by NMFS no later than 5 p.m. EST, March 3, 2005.

ADDRESS FOR SUBMITTING APPLICATIONS: Electronic submission online: http://www.grants.gov; Paper applications should be sent to NMFS, Northeast Regional Office, One Blackburn Drive, Gloucester, MA 01930.

INFORMATION CONTACT(S): Andrew Applegate, New England Fishery Management Council, 50 Water Street, The Tannery, Mill 2, Newburyport, MA 01950, phone (978) 465-0492, or Peter Christopher NMFS, Northeast Regional Office, One Blackburn Drive, Gloucester, MA 01930, phone (978) 281-9288, fax (978) 281-9135, or email Peter.Christopher@noaa.gov.

ELIGIBILITY: Eligible applicants are institutions of higher education, hospitals, other nonprofits, commercial organizations, individuals, State, local and Indian tribal governments. Federal agencies or institutions are not eligible to receive Federal assistance under this notice. Also, a person is not eligible to submit an application under this program if he/she is an employee of any Federal agency. Fishery Management Council members who are not Federal employees may submit an application.

COST SHARING REQUIREMENT: None.

INTERGOVERNMENTAL REVIEW: Applications under this program are subject to Executive Order 12372, “Intergovernmental Review of Federal Programs.”

2. Alaska Marine Resources Educational Partnership Program

SUMMARY DESCRIPTION: The Alaska Marine Resources Educational Partnership Program is a competitively based program designed to: (1) build the capacity of Minority Serving Institutions (MSI) with knowledge of Alaska marine resources to support collaborative research with NOAA Fisheries and (2) nurture a strong and diverse Alaska marine resource education and training partnership program to advance environmental literacy and support NOAA's mission in the marine sciences. Through this program, NOAA is seeking to partner with MSIs that provide undergraduate degrees in environmental sciences and can demonstrate their ability to partner with NOAA Fisheries research or management entities in Alaska to enhance the preparation of students for careers in marine resource fields.

FUNDING AVAILABILITY: This solicitation announces that approximately $75K may be available in FY2005 in award amounts to be determined by the applications and available funds.

STATUTORY AUTHORITY: 16 U.S.C. 753a, 15 U.S.C. 1540.

CFDA: 11.455 Cooperative Science and Education Program.

Application Deadline: Applicants are strongly encouraged to submit applications electronically through http://www.grants.gov, however, you may also submit your application to NOAA in paper format.

For electronic submission - Applications must be received by 5 p.m. Eastern Time on March 1, 2005. Applications received after that time will not be considered for funding.

For paper submission - Applications must be received by 5 p.m. Eastern Time on March 1, 2005. Applications received after that time will not be considered for funding.

ADDRESS FOR SUBMITTING APPLICATIONS: Electronic submission online is strongly encouraged: http://www.grants.gov.

Paper submission: MSI-Alaska Program Coordinator, National Marine Fisheries Service, Alaska Region, 709 W 9th St., RM 420, Juneau, AK 99802-1668 ATTN: AMRSP Program.

INFORMATION CONTACT(S): MSI- Alaska Program coordinator, National Marine Fisheries Service, Alaska Region, 709 W 9th St., RM 420, Juneau, AK 99802-1668 at (907) 586-7280, or by e-mail at derek.orner@noaa.gov.

ELIGIBILITY: Minority Serving Institutions eligible to submit applications include institutions of higher education identified by the Department of Education as:

(i) Historically Black Colleges and Universities,

(ii) Hispanic-Serving Institutions,

(iii) Tribal Colleges and Universities, and

(iv) Alaska Native or Native Hawaiian Serving Institutions on the most recent ``2003 United States Department of Education Accredited Post-Secondary Minority Institutions'' list: http://www.ed.gov/about/offices/list/ocr/edlite-minorityinst.html. Applications will not be accepted from any other entity submitted on behalf of MSIs.

COST SHARING REQUIREMENTS: No cost sharing is required under this program, however, the NOAA Alaska Regional Office strongly encourages applicants to share as much of the costs of the awards as possible. Funds from other Federal awards may not be considered matching funds.

INTERGOVERNMENTAL REVIEW: Applications under this program are subject to Executive Order 12372, “Intergovernmental Review of Federal Programs.”

3. Chesapeake Bay Integrated Research Program - Fisheries

SUMMARY DESCRIPTION: The Chesapeake Bay Integrated Research Program for Fisheries is a competitively based program that supports research, monitoring, modeling and management addressing various aspects of Chesapeake Bay fisheries. The Chesapeake Bay is a complex and dynamic ecosystem that supports many fisheries that are economically and ecologically important both regionally and nationally. Funded projects foster our knowledge and understanding of the Chesapeake Bay ecosystem by: (1) providing biological information and life history characteristics for many individual Chesapeake Bay fisheries stocks, and (2) broadening the multispecies knowledge base for development of fisheries ecosystem planning. All projects supported through this program will address recommendations of “Fisheries Ecosystem Planning for the Chesapeake Bay” (http://noaa.chesapeakebay.net/fish) and provide timely (real-time) information for making resource management decisions in an ecosystem context.

FUNDING AVAILABILITY: This solicitation announces that approximately $2 M may be available in FY2005 in award amounts to be determined by the applications and available funds. It is the intent of the NOAA Chesapeake Bay Office to renew funding for several projects currently being supported and to make awards with funding through this notice to these programs pending successful review of a new application package, and adequate progress reports and/or site visits.

STATUTORY AUTHORITY: 16 U.S.C. 753a; 16 U.S.C. 661.

CFDA: 11.457 Chesapeake Bay Studies.

APPLICATION DEADLINE: Applicants are strongly encouraged to submit applications electronically through http://www.grants.gov, however, you may also submit your applications to NOAA in paper format.

For electronic submission - Applications must be received by 5 p.m. Eastern Time on March 1, 2005. Applications received after that time will not be considered for funding.

For paper submission - Applications must be received by 5 p.m. Eastern Time on March 1, 2005. Applications received after that time will not be considered for funding.

ADDRESS FOR SUBMITTING APPLICATIONS: Electronic submission online is strongly encouraged: http://www.grants.gov.

Paper submission: NOAA Chesapeake Bay Office, 410 Severn Avenue, Suite 107A, Annapolis, MD 21403 ATTN: - CBIRP-Fisheries.

INFORMATION CONTACT(S): Derek Orner, NOAA Chesapeake Bay Office, 410 Severn Avenue, Suite 107A, Annapolis, MD 21403, (410) 267-5676, or by fax at (410) 267-5666, or by e-mail at derek.orner@noaa.gov.

ELIGIBILITY: Eligible applicants are institutions of higher education, other non-profits, commercial organizations, organizations under the jurisdiction of foreign governments, international organizations, state, local and Indian tribal governments. Federal agencies or institutions are not eligible to receive Federal assistance under this notice.

COST SHARING REQUIREMENTS: No cost sharing is required under this program, however, the NCBO strongly encourages applicants to share as much of the costs of the awards as possible. Funds from other Federal awards may not be considered matching funds. The nature of the contribution (cash versus in-kind) and the amount of matching funds will be taken into consideration in the review process. Priority selection will be given to applications that propose cash rather than in-kind contributions.

INTERGOVERNMENTAL REVIEW: Applications under this program are subject to Executive Order 12372, “Intergovernmental Review of Federal Programs.”

4. Chesapeake Bay Integrated Research Program - Non-native Oyster Research

SUMMARY DESCRIPTION: The Chesapeake Bay Integrated Research Program for non-native oyster research is a competitively based program that provides information and research to support a programmatic Environmental Impact Statement (EIS) on the proposed introduction of a non-native oyster species to the Chesapeake Bay and other tidal waters of Maryland and Virginia. The EIS will evaluate the proposed introduction and seven identified alternatives. NOAA is serving as the science agency ensuring adequate scientific input is obtained to inform the EIS assessments and decision-making process. NOAA seeks applications for projects that will provide data and information in the following three areas: (1) Biological, (2) Economic, and (3) Analysis of EIS alternatives.

FUNDING AVAILABILITY: This solicitation announces that approximately $2M may be available in FY2005 in award amounts to be determined by the applications and available funds. It is the intent of the NOAA Chesapeake Bay Office to renew funding for several projects currently being supported and to make awards with funding through this notice to these programs pending successful review of a new application package, and adequate progress reports and/or site visits.

STATUTORY AUTHORITY: 16 U.S.C. 753a; 16 U.S.C. 661.

CFDA: 11.457 Chesapeake Bay Studies.

APPLICATION DEADLINE: Applicants are strongly encouraged to submit applications electronically through http://www.grants.gov, however, you may also submit your applications to NOAA in paper format.

For electronic submission - Applications must be received by 5 p.m. eastern time on March 1, 2005. Applications received after that time will not be considered for funding.

For paper submission - Applications must be received by 5 p.m. Eastern Time on March 1, 2005. Applications received after that time will not be considered for funding.

ADDRESS FOR SUBMITTING APPLICATIONS: Electronic submission online is strongly encouraged: http://www.grants.gov.

Paper submission: NOAA Chesapeake Bay Office, 410 Severn Avenue, Suite 107A, Annapolis, MD 21403 ATTN: CBIRP-oyster.

INFORMATION CONTACT(S): Jamie King, at (410) 267-5655 or Derek Orner, at (410) 267-5676, NOAA Chesapeake Bay Office, 410 Severn Avenue, Suite 107A, Annapolis, MD 21403, or by fax at (410) 267-5666, or by e-mail at jamie.king@noaa.gov or derek.orner@noaa.gov.

ELIGIBILITY: Eligible applicants are institutions of higher education, other non-profits, commercial organizations, organizations under the jurisdiction of foreign governments, international organizations, state, local and Indian tribal governments. Federal agencies or institutions are not eligible to receive Federal assistance under this notice.

COST SHARING REQUIREMENTS: No cost sharing is required under this program, however, the NCBO strongly encourages applicants to share as much of the costs of the awards as possible. Funds from other Federal awards may not be considered matching funds. The nature of the contribution (cash versus in-kind) and the amount of matching funds will be taken into consideration in the review process. Priority selection will be given to applications that propose cash rather than in-kind contributions.

INTERGOVERNMENTAL REVIEW: Applications under this program are subject to Executive Order 12372, “Intergovernmental Review of Federal Programs.”

5. Chesapeake Bay Integrated Research Program - Submerged Aquatic Vegetation

SUMMARY DESCRIPTION: The Chesapeake Bay Integrated Research Program for Submerged Aquatic Vegetation Culture and Restoration is a competitively based program designed to enhance and increase this important fisheries habitat in Chesapeake Bay and its tidal tributaries. Applications should follow and refer to the guidance in the Chesapeake Bay Program's “Strategy to Accelerate the Protection and Restoration of Submerged Aquatic Vegetation in the Chesapeake Bay” which is available at http://www.chesapeakebay.net/pubs/subcommittee/lrsc/thwg/Final_SAV_restoration.PDF or via the Program Coordinator.

FUNDING AVAILABILITY: This solicitation announces that approximately $700K may be available in FY2005 in award amounts to be determined by the applications and available funds. It is the intent of the NOAA Chesapeake Bay Office to renew funding for several projects currently being supported and to make awards with funding through this notice to these programs pending successful review of a new application package, and adequate progress reports and/or site visits.

STATUTORY AUTHORITY: 16 U.S.C. 753a; 16 U.S.C. 661.

CFDA: 11.457 Chesapeake Bay Studies.

APPLICATION DEADLINE: Applicants are strongly encouraged to submit applications electronically through http://www.grants.gov, however, you may also submit your applications to NOAA in paper format.

For electronic submission - Applications must be received by 5 p.m. Eastern Time on March 1, 2005. Applications received after that time will not be considered for funding.

For paper submission - Applications must be received by 5 p.m. Eastern Time on March 1, 2005. Applications received after that time will not be considered for funding.

ADDRESS FOR SUBMITTING APPLICATIONS: Electronic submission online is strongly encouraged: http://www.grants.gov.

Paper submission: NOAA Chesapeake Bay Office, 410 Severn Avenue, Suite 107A, Annapolis, MD 21403 ATTN: CBIRP- SAV

INFORMATION CONTACT(S) Peter Bergstrom, at (410) 267-5665 or Derek Orner, at (410) 267-5676, NOAA Chesapeake Bay Office, 410 Severn Avenue, Suite 107A, Annapolis, MD 21403, or by fax at (410) 267-5666, or by e-mail at peter.bergstrom@noaa.gov or derek.orner@noaa.gov.

ELIGIBILITY: Eligible applicants are institutions of higher education, other non-profits, commercial organizations, organizations under the jurisdiction of foreign governments, international organizations, state, local and Indian tribal governments. Federal agencies or institutions are not eligible to receive Federal assistance under this notice.

COST SHARING REQUIREMENT: No cost sharing is required under this program, however, the NCBO strongly encourages applicants to share as much of the costs of the awards as possible. Funds from other Federal awards may not be considered matching funds. The nature of the contribution (cash versus in-kind) and the amount of matching funds will be taken into consideration in the review process. Priority selection will be given to applications that propose cash rather than in-kind contributions.

INTERGOVERNMENTAL REVIEW: Applications under this program are subject to Executive Order 12372, “Intergovernmental Review of Federal Programs.”

6. New Bedford Harbor Restoration Projects Grants

SUMMARY DESCRIPTION: NMFS, serving as the Administrative Trustee on behalf of the New Bedford Harbor Trustee Council (Trustee Council or Council) is inviting the public to submit applications for available funding provided for projects that will restore natural resources that were injured by the release of hazardous substances, including polychlorinated biphenyls (PCBs), in the New Bedford Harbor environment. The Trustee Council is responsible for restoration of natural resources injured through the release of polychlorinated biphenyls (PCBs) and other hazardous substances into the New Bedford Harbor, Massachusetts Environment. The Council consists of the: (1) Massachusetts Executive Office of Environmental Affairs; (2) U.S. Department of Commerce represented by NMFS; and (3) U.S. Department of the Interior represented by the U.S. Fish and Wildlife Service. Funding will be provided through grants or cooperative agreements issued through NOAA. Depending on the level of Federal involvement, selected recipients will enter into either a cooperative agreement or grant. NOAA reserves the right to utilize a different vehicle, such as a contract, if a grant or cooperative agreement is determined not to be the appropriate vehicle for funding.

FUNDING AVAILABILITY: The Council intends to fund up to $5.5 million for restoration projects addressing the natural resource injury within the New Bedford Harbor Environment.

STATUTORY AUTHORITY: 16 U.S.C. 661-667e, 42 U.S.C. 9601-9626.

CFDA: 11.463. Habitat Conservation.

APPLICATION DEADLINE: All applications for funding must be received by 5 p.m. Eastern Time, March 18, 2005. Applications received after that time will not be considered for funding.

ADDRESS FOR SUBMITTING APPLICATIONS: Electronic submission online: http://www.grants.gov; Paper applications should be sent to New Bedford Harbor Trustee Council, c/o National Marine Fisheries Service, 1 Blackburn Drive, Gloucester, MA 01930, Attn: Jack Terrill.

INFORMATION CONTACT(S): Jack Terrill, Coordinator, New Bedford Harbor Trustee Council, c/o National Marine Fisheries Service, 1 Blackburn Drive, Gloucester, MA 01930, or by phone at 978-281-9136 or on the internet at Jack.Terrill@noaa.gov; or Steven Block, New Bedford Harbor Trustee Council, c/o National Marine Fisheries Service, 1 Blackburn Drive, Gloucester, MA 01930, or by phone at 978-281-9127 or on the internet at Steve.Block@noaa.gov.

ELIGIBILITY: Eligible applicants include state, local and Indian tribal governments, institutions of higher education, other nonprofit and commercial organizations, and individuals.

COST SHARING: It is not required that applications contain cost sharing. However, the Trustee Council does encourage respondents to think about cost sharing, and if it is appropriate for a project, to discuss within the application the degree to which cost sharing may be possible. If cost sharing is proposed, the respondent is asked to account for both the Council and non-Council amounts. This information will allow the Council to better plan future expenditures.

INTERGOVERNMENTAL REVIEW: Applications under this program are subject to Executive Order 12372, “Intergovernmental Review of Federal Programs.”

7. Shellfish Growout Facility Development Grants

SUMMARY DESCRIPTION: On behalf of the New Bedford Harbor Trustee Council (Council), NMFS, serving as the Administrative Trustee to the Council, announces the availability of funds for projects that will construct and operate a shellfish growout facility or facilities that will provide the New Bedford Harbor Regional Shellfish Restoration Committee with quahog (Mercenaria mercenaria) seed annually for a minimum of five years to enhance shellfish populations in the New Bedford Harbor Environment. The shellfish growout facility or facilities must be located in the City of New Bedford or the Towns of Fairhaven or Dartmouth, Massachusetts. Depending on the level of Federal involvement in these projects, selected recipients will enter into either a cooperative agreement or a grant. Multiple grants may be awarded under this solicitation. Funds are available to state, local and Indian tribal governments, institutions of higher education, and other non-profit and commercial organizations. This notice describes the conditions under which project applications will be accepted and the criteria under which applications will be evaluated.

FUNDING AVAILABILITY: Funding up to $500,000 is expected to be available for successful applications by the Trustee Council through the New Bedford Harbor restoration program.

STATUTORY AUTHORITY: 16 U.S.C. 661.

CFDA: 11.463 Habitat Conservation.

APPLICATION DEADLINE: All applications must be received by 5 p.m. Eastern Time, March 18, 2005. Applications received after that time will not be considered for funding.

ADDRESS FOR SUBMITTING APPLICATIONS: Electronic submission online: http://www.grants.gov. Paper applications should be sent to: New Bedford Harbor Trustee Council, c/o National Marine Fisheries Service, 1 Blackburn Drive, Gloucester, MA 01930, Attn: Steve Block.

INFORMATION CONTACT(S): Steven Block, New Bedford Harbor Trustee Council, c/o National Marine Fisheries Service, 1 Blackburn Drive, Gloucester, MA 01930, (978) 281-9127 or e-mail Steve.Block@noaa.gov.

ELIGIBILITY: Eligible applicants include state, local, and Indian tribal governments, institutions of higher education, other nonprofit organizations and commercial organizations.

COST SHARING REQUIREMENTS: Although not required, the Trustee Council strongly encourages applicants responding to this solicitation to share as much of the costs of the award as possible. Funds from other Federal awards may not be considered matching funds. The nature of the contribution (cash versus in-kind) and the amount of matching funds will be taken into consideration in the final selection process.

INTERGOVERNMENTAL REVIEW: Applications under this program are subject to Executive Order 12372, “Intergovernmental Review of Federal Programs.”

8. Western Pacific Demonstration Projects

SUMMARY DESCRIPTION: NMFS is soliciting applications for financial assistance for Western Pacific Demonstration Projects. Eligible applicants are encouraged to submit projects intended to foster and promote the use of traditional indigenous fishing practices and/or to develop or enhance western Pacific community-based fishing opportunities that benefit the island communities in American Samoa, Guam, Hawaii, and the Northern Mariana Islands. Projects may also request support for research and the acquisition of materials and equipment necessary to carry out such project applications.

FUNDING AVAILABILITY: The maximum total available funding under this announcement is expected to be $500,000. NMFS will select not fewer than three and not more than five applicants for Fiscal Year 2005.

STATUTORY AUTHORITY: The Secretary is authorized to make direct grants to eligible western Pacific communities pursuant to section 111(b) of Pub. L. 104-297, as amended, and published within 16 U.S.C. 1855 note.

CFDA: 11.452, Unallied Industry Projects.

APPLICATION DEADLINE: For electronic submissions, applications must be received by 5 p.m. Hawaii Standard Time on March 15, 2005. All paper applications must be postmarked or received by 5p.m. Hawaii Standard Time on March 15, 2005. In addition, applicants should use August 1, 2005, as the proposed start date.

ADDRESSES FOR SUBMITTING APPLICATIONS: Applicants are strongly encouraged to submit applications electronically through grants.gov at http://www.grants.gov, however, you may also submit your application to NOAA in paper format. Project applications must be sent to: Federal Program Officer for Western Pacific Demonstration Projects, Pacific Islands Region, National Marine Fisheries Service, 1601 Kapiolani Boulevard, Suite 1110, Honolulu, HI 96814.

INFORMATION CONTACT: Scott Bloom, National Marine Fisheries Service, 1601 Kapiolani Boulevard, Suite 1110, Honolulu, HI 96814, at 808-973-2937, or by e-mail at Scott.Bloom@noaa.gov; or Charles Ka'ai'ai, Western Pacific Fishery Management Council, 1601 Kapiolani Boulevard, Suite 1110, Honolulu, HI 96814, 808- 522-8220 or by e-mail at Charles.Kaaiai@noaa.gov.

ELIGIBILITY: Eligible applicants are limited to communities in the Western Pacific Regional Fishery Management Area, as defined at section 305(i)(2)(D) of the Magnuson-Stevens Fishery Conservation and Management Act (Magnuson-Stevens Act), 16 U.S.C. 1855(i)(2)(D). Applicants also must meet the standards for determining eligibility set forth in section 305(i)(2)(B) of the Act, 16 U.S.C. 1855(i)(2)(B). The eligibility criteria developed by the Council and approved by the Secretary to participate in western Pacific community development programs was published in the Federal Register on April 16, 2002 (67 FR 18512 and 18513).

COST SHARING REQUIREMENTS: None

INTERGOVERNMENTAL REVIEW: Applications under this program are subject to Executive Order 12372, ''Intergovernmental Review of Federal Programs.''

NOAA Fellowship, Scholarship and Internship Programs

Oceanics and Atmospheric Research (OAR)

1. Dean John A. Knauss Marine Policy Fellowship (Knauss Fellowship Program)

SUMMARY DESCRIPTION: The Dean John A. Knauss Marine Policy Fellowship matches graduate students who have an interest in ocean, coastal and Great Lakes resources and in the national policy decisions affecting these resources with hosts in the legislative and executive branches of government for a one year paid fellowship.

FUNDING AVAILABILITY: Not less than 30 applicants will be selected, of which the selected applicants assigned to the Congress will be limited to 10. The overall cooperative agreement is $41,500 per student.

STATUTORY AUTHORITY: 33 U.S.C. 1127(b).

CATALOG OF FEDERAL DOMESTIC ASSTANCE NUMBER: 11.417, Sea Grant Support.

APPLICATION DEADLINE: Eligible graduate students must submit applications to state Sea Grant college programs, whose deadlines vary (contact individual states for due dates). Selected applications from the sponsoring Sea Grant program are to be received in the National Sea Grant Office no later than 5:00 pm EDT on April 6, 2005. Hard copy applications that arrive after the closing date will be accepted for review only if the applicant can document that the application was provided to a delivery service that guaranteed delivery prior to the specified closing date and time; in any event, hard copy applications received by the NSGO later than two business days following the closing date will not be accepted.

ADDRESSES FOR SUBMITTING APPLICATIONS: Applications from Sea Grant programs should be submitted through www.Grants.gov, unless an applicant does not have internet access. In that case, hard copy may be submitted to the NSGO and should be addressed to: National Sea Grant Office, R/SG, Attn: Dr. Nikola Garber, Knauss Program Manager, Room 11718, NOAA, 1315 East-West Highway, Silver Spring, MD 20910 (telephone number for express mail applications is 301-713-2431). Facsimile transmissions and electronic mail submission of applications will not be accepted.

INFORMATION CONTACT(S): Dr. Nikola Garber, National Sea Grant College Program, 1315 East-West Highway, Silver Spring, MD 20910; tel: (301) 713-2431 ext. 124; e-mail: nikola.garber@noaa.gov; or any state Sea Grant Program.

ELIGIBILITY: Any student, regardless of citizenship, who, on April 6, 2005, is in a graduate or professional program in a marine or aquatic-related field at a United States accredited institution of higher education in the United States may apply.

COST SHARING REQUIREMENT: There will be the one-third required cost share for those applicants selected as legislative fellows.

INTERGOVERNMENTAL REVIEW: Applications under this program are not subject to Executive Order 12372, Intergovernmental Review of Federal Programs.

Limitation of Liability

Funding for programs listed in this notice is contingent upon the availability of Fiscal Year 2005 appropriations. In no event will NOAA or the Department of Commerce be responsible for application preparation costs if these programs fail to receive funding or are cancelled because of other agency priorities. Publication of this announcement does not oblige NOAA to award any specific project or to obligate any available funds.

Universal Identifier

Applicants should be aware that, they are required to provide a Dun and Bradstreet Data Universal Numbering System (DUNS) number during the application process. See the October 30, 2002, (67 FR 66177) Federal Register for additional information. Organizations can receive a DUNS number at no cost by calling the dedicated toll-free DUNS Number request line at 1-866-705-5711 or via the internet (http://www.dunandbradstreet.com).

National Environmental Policy Act (NEPA)

NOAA must analyze the potential environmental impacts, as required by the National Environmental Policy Act (NEPA), for applicant projects or applications which are seeking NOAA federal funding opportunities, including special fishing privileges. Detailed information on NOAA compliance with NEPA can be found at the following NOAA NEPA website: http://www.nepa.noaa.gov, including our NOAA Administrative Order 216-6 for NEPA, http://www.nepa.noaa.gov/NAO216_6_TOC.pdf, and the Council on Environmental Quality implementation regulations, http://ceq.eh.doe.gov/nepa/regs/ceq/toc_ceq.htm).

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their application. The failure to do so shall be grounds for the denial of an application.

Pre-Award Notification Requirements for Grants and Cooperative Agreements

The Department of Commerce Pre-Award Notification Requirements for Grants and Cooperative Agreements contained in the Federal Register notice of December 30, 2004 (69 FR 78389), are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: January 25, 2005.
Helen Hurcombe
Director Acquisition and Grants Office, National Oceanic and Atmospheric Administration.

[FR Doc. 05-1803 Filed 1-31-05; 8:45 am]

BILLING CODE 3510-22-S